NUCLEAR REGULATORY COMMISSION

10 CFR Part 71

Regulations for the Safe Transport of Radioactive Material; Solicitation of Comments on Proposed Changes

Correction

In proposed rule document 05-8371 beginning on page 21684 in the issue of Wednesday, April 27, 2005, make the following correction:

On page 21685, in the first column, under the heading “Background,” in the third paragraph, in the third line, the Internet address should read “http://hazmat.dot.gov/regs/files/IAEA Draft Changes.htm.”

[FR Doc. C5-8371 Filed 5-3-05; 8:45 am]

BILLING CODE 1505-01-D

SECURITIES AND EXCHANGE COMMISSION

[Investment Company Act Release No. 26835; 812-12941]

UBS Supplementary Trust, et al.; Notice of Application

Correction

In notice document E5-1973 beginning on page 21474 in the issue of Tuesday, April 26, 2005, make the following correction:

On page 21474, in the first column, ÿ7Ethe docket number is corrected to read as set forth above.

[FR Doc. Z5-1973 Filed 5-3-05; 8:45 am]

BILLING CODE 1505-01-D